DEPARTMENT OF JUSTICE

Antitrust Division

Notice Pursuant to the National Cooperative Research and Production Act of 1993—American International Recruitment Council

Notice is hereby given that, on January 27, 2009, pursuant to Section 6(a) of the National Cooperative Research and Production Act of 1993, 15 U.S.C. 4301 et seq. (“the Act”) American International Recruitment Council (“AIRC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American International Recruitment Council, Cincinnati, OH. The nEtture and scope of AIRC's standards development activities are: (i) Develop standards of ethical practice pertaining to recruitment of international students to American educational institutions, such standards to address two constituencies: Educational Institutions and Student Recruitment Agents; (ii) develop best practices and training to assist overseas student recruitment agents and institutions themselves to better serve students seeking admission to American educational institutions, and (iii) establish a framework through which participating agents can have their practices certified.

Patricia A. Brink,
Deputy Director of Operations, Antitrust Division.

[FR Doc. E9-4025 Filed 2-25-09; 8:45 am]

BILLING CODE 4410-11-M